DEPARTMENT OF TRANSPORTATION

Federal Aviation Administration

Notice of Availability of the Draft Environmental Impact Statement (Draft EIS) for the Replacement of Runway 10R/28L, Development of a New Passenger Terminal, and Other Associated Airport Projects at Port Columbus International Airport (CMH) and Notice of Public Hearing

AGENCY: The lead Federal agency is the Federal Aviation Administration (FAA), Department of Transportation.

ACTION: Notice of availability, notice of public comment period, notice of public information meeting and public hearing.

SUMMARY: The FAA is issuing this Notice of Availability to advise the public that a Draft EIS will be available for public review beginning May 16, 2008. The document was prepared pursuant to major environmental directives to comply with NEPA: Section 102(2)(c) of the National Environmental Policy Act of 1969 (Pub. L. 91-190); Section 106 consultation for impacts to historic structures, as identified in 36 CFR 800.8, Coordination with the National Environmental Policy Act; U.S. Department of Transportation Section 303(c) consultation; and other applicable Federal and State environmental laws, regulations, and Executive Orders.

The Draft EIS was prepared in response to a proposal presented to the FAA by the Columbus Regional Airport Authority (CRAA), the owner and operator of CMH and identified in the Draft EIS as the Airport Sponsor, for environmental review.

The FAA prepared this Draft EIS to analyze and disclose potential environmental impacts related to possible Federal actions at CMH. Numerous Federal actions would be necessary if airfield development were to be implemented. Proposed improvements include replacement of Runway 10R/28L, Development of a New Passenger Terminal, and other airfield projects (see below).

The Draft EIS presents the purpose and need for the proposed Federal action, analysis of reasonable alternatives, including the No Action alternative, discussion of impacts for each reasonable alternative, and supporting appendices. The FAA will consider all information contained in this Draft EIS and additional information that may be provided during the public comment period before issuing a Final EIS and Agency decision regarding the possible alternatives and Federal actions.

The Airport Sponsor proposes to replace Runway 10R/28L at CMH, approximately 700 feet south of the existing Runway 10R/28L; develop new terminal facilities in the midfield area; provide ancillary facilities in support of the replacement runway and midfield terminal; and implement noise abatement air traffic procedures developed for the replacement runway.

The replacement runway would be 10,113 feet long. This length would maintain CMH's ability to accommodate current and projected airport operations. Existing Runway 10R/28L would be decommissioned as a runway and converted into a taxiway upon commissioning of the replacement runway. In addition, a south taxiway and north parallel taxiways to proposed Runway 10R/28L would be constructed.

To meet future aircraft parking and passenger processing requirements, new midfield terminal facilities are needed. The Draft EIS assesses a development envelope that is defined as an area large enough to encompass Phase I and II of the CRAA terminal development program. The Draft EIS discusses the number of gates, approximate square footage, approximate curb frontage, and the number of passengers that the terminal would accommodate.

Ancillary facilities in support of the replacement runway and midfield terminal would be constructed. The facilities include roadway relocations and construction; parking improvements; property acquisition; and relocation of residences, as necessary.

The CRAA has prepared a 14 CFR Part 150 Noise Compatibility Study Update (Part 150 Update) to address the current and future noise conditions. The Part 150 Update includes an analysis of the potential noise and land use impacts resulting from the proposed development of relocating Runway 10R/28L to the south, as well as possible mitigation options. The noise abatement air traffic options recommended through the Part 150 Update are included in the EIS as part of the proposed project. In addition, the land use mitigation that is recommended in the Part 150 Update is included in the EIS as mitigation for impacts resulting from the proposed project.

Public Comment and Information Workshop/Public Hearing: The public comment period on the Draft EIS will start May 16, 2008 and will end on July 11, 2008. Two Public Information Workshops and Public Hearings will be held on June 11 and 12, 2008 from 5 p.m. to 8 p.m. at the following locations:

June 11,2008, Oakland Park at Brentnell Elementary School, 1270 Brentnell Avenue, Columbus, OH 43219;

June 12, 2008, Whitehall Community Park, Activities Center, 402 North Hamilton Road, Whitehall, OH 43213.

The Public Hearings will conclude when the last registered speaker presents their oral comments for the record. In the event that it becomes necessary, time limits may be imposed.

Comments can only be accepted with the full name and address of the individual commenting. Mailed and faxed comments are to be submitted to Ms. Katherine Jones of the FAA, at the address shown in FOR FURTHER INFORMATION CONTACT. E-mailed comments should be sent to cmheis@faa.gov). All comments must be postmarked, faxed or e-mailed by no later than midnight, Friday, July 11, 2008. The Draft EIS may be reviewed for comment during regular business hours at the following locations:

1. Federal Aviation Administration, 11677 S. Wayne Rd., Suite 107, Romulus, MI 48174 (Telephone: 734-229-2958).

2. Columbus Regional Airport Authority, Port Columbus International Airport, Administrative Offices, 4600 International Gateway, Columbus, OH 43219 (Telephone: 614-239-4063).

3. City of Gahanna, 200 South Hamilton Road, Gahanna, OH 43230 (Telephone: 614-342-4000).

4. City of Whitehall, 360 South Yearling Road, Whitehall, OH 43213 (Telephone: 614-338-3106).

5. Jefferson Township, 6545 Havens Road, Blacklick, OH 43004 (Telephone: 614-855-4260).

6. City of Bexley, 2242 East Main Street, Bexley, OH 43209 (Telephone: 614-327-6200).

7. City of Reynoldsburg, 7232 East Main Street, Reynoldsburg, OH 43068 (Telephone: 614-322-6800).

8. Columbus Metropolitan Library, Main Branch, 96 South Grant Avenue, Columbus, OH 43215 (Telephone: 614-645-2275).

9. Columbus Metropolitan Library, Gahanna Branch, 310 Granville Street, Gahanna, OH 43230 (Telephone: 614-645-2275).

10. Columbus Metropolitan Library, Shepard Branch, 790 N. Nelson Road, Columbus, OH 43219 (Telephone: 614-645-2275).

11. Columbus Metropolitan Library, Linden Branch, 2432 Cleveland Avenue, Columbus, OH 43211 (Telephone: 614-645-2275).

12. Columbus Metropolitan Library, Whitehall Branch, 4371 East Broad Street, Whitehall, OH 43213 (Telephone: 614-645-2275).

13. Columbus Metropolitan Library, Reynoldsburg Branch, 1402 Brice Road, Reynoldsburg, OH 43068 (Telephone: 614-645-2275).

14. Bexley Public Library, 2411 East Main Street, Bexley, OH 43209 (Telephone: 614-231-2793).

15. CMH EIS Web site, http://www.airportsites.net/cmh-eis.

SUPPLEMENTARY INFORMATION: The FAA encourages all interested parties to provide comments concerning the scope and content of the Draft EIS. Comments should be as specific as possible. Comments should address the contents of the Draft EIS, such as the analysis of potential environmental impacts, the adequacy of the proposed action to meet the stated need, or the merits of the various alternatives. Reviewers should organize their participation to make it meaningful and effective in making the FAA aware of the reviewer's interests and concerns. Reviewers should use quotations, page references, and other specific citations to the text of the Draft EIS and related documents. This commenting procedure is intended to ensure that substantive comments and concerns are made available to the FAA in a timely and effective manner, so that the FAA has an opportunity to address them.

FOR FURTHER INFORMATION CONTACT: Ms. Katherine S. Jones, FAA Detroit Airports District Office, 11677 South Wayne Road, Suite 107, Romulus, Michigan 48174. Telephone: (734) 229-2958, Fax: (734) 229-2950.

Issued in Romulus, Michigan on April 30, 2008.
Matthew Thys,
Manager, FAA Detroit Airports District Office.

[FR Doc. E8-10184 Filed 5-8-08; 8:45 am]

BILLING CODE 4910-13-M